DEPARTMENT OF EDUCATION

Notice of Proposed Information Collection Requests; Institute of Education Sciences; Implementation of Title I/II Program Initiatives

SUMMARY: This evaluation will examine the implementation of core policies promoted by Title I and Title II at the state district, and school levels in four areas: content standards, assessments, accountability, and effective teachers and leaders.

DATES: Interested persons are invited to submit comments on or before September 10, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04888. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Implementation of Title I/II Program Initiatives.

OMB Control Number: Pending.

Type of Review: New.

Total Estimated Number of Annual Responses: 4,107.

Total Estimated Number of Annual Burden Hours: 2,191.

Abstract: Historically, Title I provides financial assistance to schools and districts with a high percentage of students from low-income families to help these students increase achievement. Title I also includes requirements that states hold schools and districts accountable for improvements in student achievement. Title II provides funds to increase academic achievement by improving teacher and principal quality including educator preparation and professional development, as well as providing funds for class-size reduction. This is the first submission of a request for approval of baseline data collection activities that will be used to support the Implementation of Title I/II Program Initiatives. This package requests approval for an initial data collection that will include surveys of all states and a nationally representative sample of school districts, schools, and Kindergarten through 12th grade teachers in spring 2013. The second package will request approval for the spring 2015 follow-up data collection.

Dated: July 5, 2012.
Darrin A. King,
Director, Information Collection Clearance Division, Privacy, Information and Records Management Services, Office of Management.

[FR Doc. 2012-16826 Filed 7-9-12; 8:45 am]

BILLING CODE 4000-01-P